DEPARTMENT OF TRANSPORTATION

Office of the Secretary

Notice of Applications for Certificates of Public Convenience and Necessity and Foreign Air Carrier Permits Filed Under Subpart B (Formerly Subpart Q) during the Week Ending December 3, 2004

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-1999-5868.

Date Filed: November 30, 2004.

Due Date for Answers, Conforming Applications, or Motion to Modify Scope: December 21, 2004.

Description: Application of Continental Airlines, Inc. requesting renewal of its active Route 561 U.S.-Mexico certificate authority and to amend Route 561 to award Continental authority to engage in scheduled air transportation of persons, property and mail between Houston and Manzanillo and Morelia and between New York/Newark and Acapulco, Puerto Vallarta and San Jose del Cabo.

Docket Number: OST-1999-6275.

Date Filed: November 30, 2004.

Due Date for Answers, Conforming Applications, or Motion to Modify Scope: December 21, 2004.

Description: Application of Delta Air Lines, Inc. requesting renewal and amendment of its certificate of public convenience and necessity for Route 562, authorizing Delta to continue to engage in scheduled foreign air transportation of persons, property, and mail on the U.S. Mexico routes.

Docket Number: OST-1999-6319.

Date Filed: November 30, 2004.

Due Date for Answers, Conforming Applications, or Motion to Modify Scope: December 21, 2004.

Description: Application of Northwest Airlines, Inc., requesting renewal of its experimental certificate of public convenience and necessity for Route 564 (U.S.-Mexico), and amendment of its Route 564 certificate authority to include U.S.-Mexico city-pairs Northwest currently is authorized to serve under exemption authority. Northwest also asks for renewed authority to integrate Route 564 certificate authority with its existing certificate and exemption authority.

Docket Number: OST-1999-6276.

Date Filed: December 1, 2004.

Due Date for Answers, Conforming Applications, or Motion to Modify Scope: December 22, 2004.

Description: Application of Alaska Airlines, Inc. requesting renewal of its certificate of public convenience and necessity for Route 559 permitting Alaska to engage in scheduled foreign air transportation of persons, property and mail on the United States-Mexico routes. Alaska Airlines, Inc. also requests amendment of its certificate to include various routes held by Alaska currently through exemption authority.

Docket Number: OST-1999-6671.

Date Filed: December 1, 2004.

Due Date for Answers, Conforming Applications, or Motion to Modify Scope: December 22, 2004.

Description: Application of ATA Airlines, Inc., requesting renewal and amendment of its certificate of public convenience and necessity for Route 653 permitting ATA to continue to engage in scheduled foreign air transportation of persons, property, and mail between Indianapolis, IN and Cancun, Mexico. ATA also request that its certificate be amended and reissued in the name of ATA Airlines, Inc.

Renee Wright,
Supervisory Dockets Officer, Alternate Federal Register Liaison.

[FR Doc. 04-28010 Filed 12-30-04; 8:45 am]

BILLING CODE 4910-62-P